COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments Must Be Received On Or Before: 8/1/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products:

NSN: 7530-01-434-4198—Index Maker, Dividers, 5-Tab, Multi-Color.

NSN: 7530-00-NIB-0916—Index Maker, Dividers, 8-Tab, Multi-Color.

NSN: 7530-00-NIB-0917—Index Maker, Dividers, 5-Tab, White.

NSN: 7530-00-NIB-0918—Index Maker, Dividers, 8-Tab, White.

NSN: 7530-00-NIB-0919—Index Maker, Dividers, 5-Tab, 5 Set Pack, White.

NSN: 7530-00-NIB-0920—Index Maker, Dividers, 8-Tab, 5 Set Pack, White.

NPA: South Texas Lighthouse for the Blind, Corpus Christi, TX.

Contracting Activity: General Services Administration, New York, NY.

Coverage: A-List for the Total Government Requirement as aggregated by the General Services Administration.

NSN: 8940-00-NIB-0094—Soup, Shelf-Stable, Cream of Mushroom, Low Sodium.

NSN: 8940-00-NIB-0095—Soup, Shelf-Stable, Cream of Chicken.

NPA: Cambridge Industries for the Visually Impaired, Somerset, NJ.

Contracting Activity: Dept of Agric/Agricultural Marketing Service, Washington, DC.

Coverage: C-List for 100% of the requirement of the Department of Agriculture, as aggregated by the Department of Agriculture, Agricultural Marketing Service, Washington, DC.

Services:

Service Type/Locations: Custodial Service, USDA Forest Service, Chippewa National Forest Supervisor's Office, 200 Ash Avenue, Cass Lake, MN.

USDA Forest Service, Blackduck Ranger District, 417 Forestry Drive, Blackduck, MN.

NPA: Occupational Development Center, Inc., Thief River Falls, MN.

Contracting Activity: Dept of Agriculture, Forest Service, Chippewa National Forest, Cass Lake, MN.

Service Type/Locations: Administrative Services, HUD—Knoxville Field Office, 710 Locust Street, SW., Knoxville, TN.

HUD—Jackson Field Office, McCoy Federal Building, 100 W. Capitol Street, Jackson, MS.

NPA: Tommy Nobis Enterprises, Inc., Marietta, GA.

Contracting Activity: Dept of Housing and Urban Development, Chicago Regional Office, Rco, Chicago, IL.

Service Type/Locations: Custodial Services, Campbell Industrial, Buildings FTEC 977 & FTEC Trailer, Oahu, HI.

Makalapa, Buildings 16, 57, 81, 117, 200, 250, 251, 258, 259, 261, 346, 352, 388, 391, 396, 396A, 400, 402, 404, 405, 406, S1734, T9B3331 & Trailer D, Oahu, HI.

Marine Corps Base Hawaii (MCBH), Building 6470 & HANGAR 105, Kaneohe Bay, HI.

Wheeler Army Air Base, Building 107, Oahu, HI.

Ford Island, Buildings 77, 87, 170, 171, 459, 510, Hangar 133 & 167 NUWC, Oahu, HI.

Naval Computer and Telecommunications Area Master Station, (NCTAMS), Pacific Buildings 105, 108, 114 & 261, Wahiawa, HI.

Pearl City Peninsula, Buildings 987, 989, 992 & 995, Oahu, HI.

Pearl Harbor Complex, Oahu, HI.

NPA: Opportunities and Resources, Inc., Wahiawa, HI.

Contracting Activity: Dept of the Navy, Navfac Engineering Command Hawaii, Pearl Harbor, HI.

Service Type/Location: Custodial Service, Puget Sound Navy Museum, 251 First Avenue, Bremerton, WA.

NPA: Skookum Educational Programs, Bremerton, WA.

Contracting Activity: Dept of the Navy, NAVFAC Northwest, Silverdale, WA.

Service Type/Location: Contact Center Service, DOT Federal Motor Carrier Safety Administration, New Entrant Contact Center, Washington, DC, (Offsite Location: 507 Kent Street, Utica, NY).

NPA: Central Association for the Blind & Visually Impaired, Utica, NY.

Contracting Activity: Department of Transportation, Federal Motor Carrier Safety Administration, Washington, DC.

Barry S. Lineback,
Director, Business Operations.

[FR Doc. 2011-16578 Filed 6-30-11; 8:45 am]

BILLING CODE 6353-01-P